NUCLEAR REGULATORY COMMISSION

[NRC-2016-0228]

Statistical Terminology and Notation for Special Nuclear Materials Control and Accountability

AGENCY: Nuclear Regulatory Commission.

ACTION: Regulatory guide; withdrawal.

SUMMARY: The U.S. Nuclear Regulatory Commission (NRC) is withdrawing Regulatory Guide (RG) 5.3, “Statistical Terminology and Notation for Special Nuclear Materials Control and Accountability,” that was issued in 1973. This document is being withdrawn in part because regulatory guidance is not needed for common statistical terminology and notation information that is commonly used in the field of statistics. Further, RG 5.3 provided guidance on the term “limits of error” as defined in the NRC's regulations. This term is no longer a defined regulatory term and is no longer used by the NRC except in certain transaction reports. Also, RG 5.3 endorsed a 1972 American National Standards Institute (ANSI) standard that was later withdrawn. Therefore, the NRC finds that RG 5.3 is obsolete.

DATES: The effective date of the withdrawal of RG 5.3, “Statistical Terminology and Notation for Special Nuclear Materials Control and Accountability” is November 8, 2016.

ADDRESSES: Please refer to Docket ID NRC-2016-0228 when contacting the NRC about the availability of information regarding this document. You may obtain publically-available information related to this document, using the following methods:

• Federal Rulemaking Web site: Go to http://www.regulations.gov and search for Docket ID NRC-2016-0228. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The basis for the withdrawal of this guide is found in ADAMS under Accession No. ML16216A145.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Glenn Tuttle, Office of Nuclear Materials Safety and Safeguards, telephone: 301-415-7230, email: Glenn.Tuttle@nrc.gov and Harriet Karagiannis, Office of Nuclear Regulatory Research, telephone: 301-415-2493, email: Harriet.Karagiannis@nrc.gov. Both are staff of the U.S. Nuclear Regulatory Commission, Washington, DC 20555-0001.

SUPPLEMENTARY INFORMATION:

The NRC staff issued RG 5.3 in February 1973 to provide guidance on material control and accounting (MC&A) requirements that were then set forth in section 70.51 of Title 10 of the Code of Federal Regulations (10 CFR). In 2002, the requirements for recordkeeping were established, and the 10 CFR 70.51(b)-(d) provisions were transferred to 10 CFR 74.19, “Recordkeeping.” Furthermore, RG 5.3 endorsed the American National Standards Institute (ANSI) Standard N15.5-1972, “Statistical Terminology and Notation for Nuclear Materials Management,” and thus provided NRC guidance for acceptable terminology and notation concerning statistical analyses of accountability data for special nuclear material (SNM) control purposes that licensees could use when establishing their written MC&A procedures necessary to enable them to account for SNM in their possession.

Regulatory Guide 5.3 provided guidance on the statistical terminology and notation used in ANSI N15.5-1972, and such information is now found in any elementary statistics textbook. A specific regulatory guide on common statistical terminology and notation is therefore no longer needed. In addition, ANSI N15.5-1972 has been withdrawn by ANSI in coordination with the Institute of Nuclear Materials Management. Only one of the terms “limits of error,” referenced in ANSI N15.5-1972 had a definition specific to MC&A applications, and this term was defined in 10 CFR 70.51(a)(5). In moving the 10 CFR 70.51(a) definitions to 10 CFR 74.4 in 2002, the “limits of error” definition was removed, and this term is no longer used by the NRC except in transaction reports submitted to the national database.

Further, any other statistical terms that require explanation or clarification are now included in the 10 CFR 74.4 set of MC&A definitions, and regulatory guidance related to MC&A definitions is included in NUREG-1065, “Acceptable Standard Format and Content for the Fundamental Nuclear Material Control (FNMC) Plan Required for Low-Enriched Uranium Facilities,” (ADAMS Accession No. ML031340288) and NUREG/CR-5734, “Recommendations to the NRC on Acceptable Standard Format and Content for the Fundamental Nuclear Material Control (FNMC) Plan Required for Low-Enriched Uranium Enrichment Facilities” (ADAMS Accession No. ML15120A354). Additional general statistical information is provided in NUREG/CR-4604, “Statistical Methods for Nuclear Materials Management” (ADAMS Accession No. ML103430339).

Because RG 5.3 is no longer needed, the NRC is withdrawing RG 5.3. Withdrawal of a regulatory guide means that the guide no longer provides useful information or has been superseded by other guidance, technological innovations, congressional actions, changes in NRC regulations, or other events. The withdrawal of RG 5.3 does not alter any prior or existing NRC licensing approval or the acceptability of licensee commitments to RG 5.3. Although RG 5.3 is withdrawn, current licensees may continue to use it, and withdrawal does not affect any existing licenses or agreements. However, RG 5.3 should not be used in future requests or applications for NRC licensing actions.

Dated at Rockville, Maryland, this 2nd day of November, 2016.
For the Nuclear Regulatory Commission.
Thomas H. Boyce,
Chief, Regulatory Guidance and Generic Issues Branch, Division of Engineering, Office of Nuclear Regulatory Research.

[FR Doc. 2016-26911 Filed 11-7-16; 8:45 am]

BILLING CODE 7590-01-P